DEPARTMENT OF HEALTH AND HUMAN SERVICES

Centers for Disease Control and Prevention

[30Day-01-04]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503; or by fax to (202) 395-6974. Written comments should be received within 30 days of this notice.

Proposed Project: Assessing the Linkages between Dating Violence, Other Peer Violence, and Suicide—New—National Center for Injury Prevention and Control (NCIPC), Centers for Disease Control and Prevention (CDC).

Violence is an important public health problem, particularly among our youth. In the United States, homicide and suicide are the second and third leading causes of death, respectively, for youth aged 15-19 years. There has been a tremendous growth in research on the prevalence, incidence, causes and effects of dating violence, peer violence, and suicide among youth. Various disciplines have contributed to the development of research on the subject including psychology, epidemiology, criminology and public health.

Still, considerable gaps remain in our understanding of the extent to which youth who engage in one type of violent behavior are more likely to engage in other types of violent behavior. Existing research on the linkages across different forms of violent behavior among youth are limited. Research with adults suggests that dating violence and other peer violence are strongly linked, however the strength of this association among adolescents and the degree to which it changes by developmental stage remain unclear. Similarly, regarding the linkages with suicidal behavior, gaps remain in our understanding of the extent to which suicidal behavior varies for those who engage in dating violence versus other peer violence or both types of violence, and how this association varies by age. Also, the extent to which risk for participation in single versus multiple types of violence varies for adolescent males and females is generally not well understood.

Gaps in our understanding of how different types of violent behavior are linked and whether they share common risk factors have limited the ability to design violence prevention and intervention efforts that could address multiple types of violence. Additional information on the linkages among dating violence, other peer violence, and suicidal behavior and how these linkages differ by gender and age is needed to guide the selection, timing, and focus of prevention strategies. This study will increase the knowledge and understanding of the linkages among different types of violence. As a result, CDC will work with a contractor to identify a school district in a high-risk community, identify a sample of students to participate in the study, and develop a questionnaire that will be administered to male and female students at different developmental stages (i.e., 6th, 9th and 12th grade).

The goals of the study are to examine the extent (a) youth engage in multiple types of violence (i.e., dating violence, other peer violence, and suicidal behavior); (b) risk and protective factors for different types of violence that are unique or shared; (c) linkages across types of violence varied by gender and developmental stage; and (d) other socio-environmental factors which buffer or exacerbate risk for violence. The questionnaires include information about aggressive and violent behaviors (e.g., verbal, coercive, physical, and sexual) that youth use against dating partners and peers; and suicidal thoughts, plans, and attempts. Additionally, the questionnaires will include information about psycho-social and behavioral factors that may buffer or exacerbate risk for violent behavior. The scales used in the questionnaire are original or modified versions of established scales that were developed for use with adolescents.

A better understanding or the linkages among dating violence, other peer violence, and suicidal behavior, and how these linkages differ by gender and age is needed to guide the selection, timing, and focus of prevention strategies. Ultimately, this information will guide CDC in designing programs that reduce multiple forms of violence among adolescents and young adults. The estimated annualized burden is 4624 hours.

Respondents | Number of respondents | Number or responses/respondent | Average burden/response (in hrs.)
Students (recruitment, students <18 years) | 5,882 | 1 | 5/60
Parents (permission, students <18 years) | 5,882 | 1 | 5/60
Students participants | 4,500 | 1 | 45/60
School administrators | 29 | 1 | 1
Classroom teachers | 240 | 1 | 1

Dated: October 24, 2003.
Gaylon D. Morris,
Acting Director, Executive Secretariat, Centers for Disease Control and Prevention.

[FR Doc. 03-27795 Filed 11-4-03; 8:45 am]

BILLING CODE 4163-18-P